DEPARTMENT OF COMMERCE

National Oceanic and Atmospheric Administration

RIN 0648-XC779

Takes of Marine Mammals Incidental to Specified Activities; Low-Energy Marine Geophysical Survey in the Dumont d'Urville Sea Off the Coast of East Antarctica, January to March 2013

Correction

In notice document 2013-31471 appearing on pages 464-497 in the issue of Friday, January 3, 2014, make the following correction:

On page 464, in the first column, in the 41st through 42nd lines, “February 3, 2014” should read “January 30, 2014”.

[FR Doc. C1-2013-31471 Filed 1-6-14; 8:45 am]

BILLING CODE 1505-01-D